EXECUTIVE OFFICE OF THE PRESIDENT

National Commission on Fiscal Responsibility and Reform

April 2010 Commission Meeting

In accordance with section 10(a)(2) of the Federal Advisory Committee Act (Pub. L. 92-463), the National Commission on Fiscal Responsibility and Reform announces the following meeting:

Name: National Commission on Fiscal Responsibility and Reform April 2010 Meeting.

Time and Date: Tuesday, April 27, 10 a.m.-1 p.m. EDT.

Place: The location of the meeting is Washington, DC. If you would like to attend, please RSVP to the Designated Federal Office (DFO), Bruce Reed at commission@fc.eop.gov. Those who have expressed interest in attending this meeting will be contacted once the location is finalized.

Status: The meeting will be open to the public, but limited by the space available.

Purpose: This will be the first meeting of the recently established National Commission on Fiscal Responsibility and Reform (Commission). At this meeting the Commission will discuss the Nation's long-term fiscal challenges and define the scope of the Commission's work.

Contact Person for Additional Information: Please contact Bruce Reed for any additional information about the meeting at commission@fc.eop.gov.

Agenda: This meeting will be the inaugural gathering of Commission members. In addition to introducing members to one another, at this meeting the Commission will discuss the Nation's long-term fiscal challenges and define the scope of the Commission's work. Additionally the Commission will discuss its internal operating structure and seek to identify what subcommittees should be formed to support its work. A more complete agenda will be made publicly available prior to the April 27 meeting and can be requested from the DFO at commission@fc.eop.gov.

Public Comment: If you would like to submit written comment for distribution prior to the meeting it should be received no later than April 17, 2010. The preferred written comment format is MS Word submitted to commission@fc.eop.gov.

Information on Services for Individuals With Disabilities

For information on facilities or services for individuals with disabilities or to request special assistance at the meetings, please inform the DFO at commission@fc.eop.gov as soon as possible.

Dated: April 7, 2010.
Bruce Reed,
Executive Director of the Commission.

[FR Doc. 2010-8370 Filed 4-9-10; 8:45 am]

BILLING CODE 3160-01-P